DEPARTMENT OF HOUSING AND URBAN DEVELOPMENT

[Docket No. FR-5610-N-01]

Notice of Proposed Information for Public Comment for: Public/Private Partnerships for the Mixed-Finance Development of Public Housing Units

AGENCY: Office of the Chief Information Officer, HUD.

ACTION: Notice.

SUMMARY: The proposed information collection requirement described below will be submitted to the Office of Management and Budget (OMB) for review, as required by the Paperwork Reduction Act. The Department is soliciting public comments on the subject proposal.

The 1998 Public Housing Reform Act allowed the Mixed-Finance development of public housing units. This meant that Public Housing Authorities (PHAs) could create public housing projects using public housing grant or capital funds and non-HUD sources of funds, subject to HUD's approval. This Information Collection pertains to the information that HUD collects to perform due diligence in order to approve the mixed-finance development of public housing prior to a financial closing and the start of construction or rehabilitation activities. Applicants describe ownership, the type, size, and number of units, construction schedule, construction and permanent financing, property management, how public housing operating subsidy will be provided to the project and other operation plans. New developments may be made up of a variety of housing types: rental, homeownership, private, subsidized, and public housing. These new communities are built for residents with a wide range of incomes, and are designed to fit into the surrounding community.

DATES: Comments Due Date: March 12, 2012.

ADDRESSES: Interested persons are invited to submit comments regarding this proposal. Comments should refer to the proposal by name and OMB Control Number (2577-New) and should be sent to: HUD Desk Officer Office of Management and Budget, New Executive Office Building, Washington, DC 20503: Fax (202) 395-5806.

FOR FURTHER INFORMATION CONTACT: Colette Pollard., Departmental Reports Management Officer, QDAM, Department of Housing and Urban Development, 451 Seventh Street SW., Room 4176, Washington, DC 20410; telephone: (202) 402-3400, (this is not a toll-free number) or email Ms. Pollard at Colette.Pollard@hud.gov.

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Public/Private Partnerships for the Mixed-Finance Development of Public Housing Units.

OMB Control Number, if applicable: 2577-New.

Description of the need for the information and proposed use: HUD is requesting a new, separate OMB Control Number for all existing information collection documents needed to perform due diligence before approving a Mixed-Finance financial closing and committing HUD public housing funds to the development of a Mixed-Finance project. Most of the information collection documents included in this request resolve PRA non-compliance issues. The documents are currently collected by HUD, have been standardized or modified to decrease burden hours. One new document automates existing manual financial calculations.

Agency form numbers, if applicable: HUD-50030, HUD-50029, HUD-50150, HUD-50151, HUD-50154, HUD-50155.

Members of Affected Public: State and Local Governments, Public Housing Agencies, Real Estate Developers, Public Housing Residents.

Estimation of the total number of hours needed to prepare the information collection including number of respondents, frequency of response, and hours of response: The estimated number of respondents is 130 annually, responding once with each housing development financial closing, with 920 annual responses. The total reporting burden is 16,995 hours.

Status of the proposed information collection: Existing collection pending an OMB control number.

Authority: section 3506 of the Paperwork Reduction Act of 1995, 44 U.S.C. chapter 35, as amended.

Dated: December 28, 2011.
Merrie Nichols-Dixon,
Deputy Director for Office of Policy, Program and Legislative Initiatives.

[FR Doc. 2012-252 Filed 1-9-12; 8:45 am]

BILLING CODE 4210-67-P